DEPARTMENT OF THE INTERIOR

National Park Service

General Management Plan, Draft Environmental Impact Statement, Tonto National Monument, Arizona

AGENCY: National Park Service, Department of the Interior.

ACTION: Availability of draft environmental impact statement and general management plan for Tonto National Monument.

SUMMARY: Pursuant to section 102(2)(C) of the National Environmental Policy Act of 1969, the National Park Service announces the availability of a draft Environmental Impact Statement and General Management Plan (DEIS/GMP) for Tonto National Monument, Arizona.

DATES: The DEIS/GMP will remain available for public review for sixty calendar days from the published date of this Notice of Availability. If any public meetings are held concerning the DEIS/GMP, they will be announced at a later date.

Comments: If you wish to comment, you may submit your comments by any one of several methods. You may mail comments to Superintendent, Tonto National Monument, HC02, Box 4602, Roosevelt, AZ 85545. You may also comment via the Internet to http://www.nps.gov/planning/tont. If you do not receive a confirmation from the system that we have received your Internet message, contact us directly at Superintendent, Tonto National Monument, (928) 467-2241. Finally, you may hand-deliver comments to Tonto National Monument, HC02, Roosevelt, AZ 85545. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the DEIS/GMP are available from the Superintendent, Tonto National Monument, HC02, Box 4602, Roosevelt, AZ 85545. Public reading copies of the DEIS/GMP will be available for review at the following locations:

Office of the Superintendent, Tonto National Monument, State Route 188, 30 miles west of Globe, AZ, Roosevelt, AZ 85545, Telephone: (928) 467-2241.

Planning and Environmental Quality, Intermountain Support Office—Denver, National Park Service, 12795 W. Alameda Parkway, Lakewood, CO 80228, Telephone: (303) 969-2851.

Office of Public Affairs, National Park Service, Department of the Interior, 18th and C Streets, NW., Washington, DC 20240, Telephone: (202) 208-6843.

SUPPLEMENTARY INFORMATION: This Draft General Management Plan/Environmental Impact Statement describes and analyzes alternatives for the management of Tonto National Monument over the next ten to fifteen years. Four alternatives were considered—a no-action and three action alternatives including the National Park Service (NPS) proposal. The NPS proposal would construct a new administrative facility within monument boundaries to improve staff needs and remodel the existing visitor center to increase visitor orientation and education opportunities. The management of cultural and natural resources would also improve with more staff and the information needed to conduct preservation programs. The DEIS/GMP in particular evaluates the environmental consequences of the proposed action and the other alternatives on impacts to archeological and historical resources, long-term health of natural ecosystems, visitor experiences, economic contribution to local communities, adjacent landowners, and operational efficiency. The draft plan also describes cumulative effects for each alternative.

FOR FURTHER INFORMATION CONTACT: Superintendent, Tonto National Monument, HC02, Box 4602, Roosevelt, AZ 85545 Phone: (928) 467-2241.

Dated: March 14, 2002.
Michael Synder,
Director, Intermountain Region, National Park Service.

[FR Doc. 02-10134 Filed 4-24-02; 8:45 am]

BILLING CODE 4310-70-P